DEPARTMENT OF LABOR

Employment and Training Administration

[TA-W-63,269]

Daimler Trucks North America, LLC a Subsidiary of Daimler A.G. Freightliner Trucks Division Including On-Site Leased Workers From Aerotek, Cleveland, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on May 12, 2008, applicable to workers of Daimler Trucks North America, LLC, a subsidiary of Daimler A.G., Freightliner Trucks Division, Cleveland, North Carolina. The notice was published in the Federal Register on May 29, 2008 (73 FR 30977).

At the request of the petitioner, the Department reviewed the certification for workers of the subject firm. The workers are engaged in the production of class 8 heavy duty trucks.

New information shows that workers leased from Aerotek were employed on-site at the Cleveland, North Carolina location of Daimler Trucks North America, LLC, a subsidiary of Daimler A.G., Freightliner Trucks Division. The Department has determined that these workers were sufficiently under the control of Daimler Trucks North America, LLC, a subsidiary of Daimler A.G., Freightliner Trucks Division to be considered leased workers.

Based on these findings, the Department is amending this certification to include workers leased from Aerotek working on-site at the Cleveland, North Carolina location of the subject firm.

The amended notice applicable to TA-W-63,269 is hereby issued as follows:

All workers of Daimler Trucks North America, LLC, a subsidiary of Daimler A.G., Freightliner Trucks Division, including on-site leased workers from Aerotek, Cleveland, North Carolina, who became totally or partially separated from employment on or after April 22, 2007, through May 12, 2010, are eligible to apply for adjustment assistance under Section 223 of the Trade Act of 1974, and are also eligible to apply for alternative trade adjustment assistance under Section 246 of the Trade Act of 1974.

Signed at Washington, DC, this 3rd day of April 2009.
Linda G. Poole,
Certifying Officer, Division of Trade Adjustment Assistance.

[FR Doc. E9-8408 Filed 4-13-09; 8:45 am]

BILLING CODE 4510-FN-P